DEPARTMENT OF EDUCATION

[Docket No.: ED-2020-SCC-0115]

Measures and Methods for the National Reporting System for Adult Education; Correction

AGENCY: Office of Career, Technical and Adult Education (OCTAE), Department of Education (ED).

ACTION: Correction Notice.

SUMMARY: The PRA Coordinator, Strategic Collections and Clearance, Office of the Chief Data Officer, Office of Planning, Evaluation and Policy Development, hereby issues a correction notice as required by the Paperwork Reduction Act of 1995.

SUPPLEMENTARY INFORMATION: On November 19, 2020, the U.S. Department of Education published a 30-day comment period notice in the Federal Register with FR DOC# 2020-25550 (Page 73696, Column 1, Column 2) seeking public comment for an information collection entitled, “Measures and Methods for the National Reporting System for Adult Education”. The docket number is incorrect. The correct docket number is ED-2020-SCC-0117.

Dated: November 19, 2020.
Kate Mullan,
PRA Coordinator, Strategic Collections and Clearance, Office of the Chief Data Officer, Office of Planning, Evaluation and Policy Development.

[FR Doc. 2020-25934 Filed 11-23-20; 8:45 am]

BILLING CODE 4000-01-P